SMALL BUSINESS ADMINISTRATION

[Declaration of Disaster #3299]

State of Ohio

As a result of the President's major disaster declaration on September 26, 2000, I find that Greene County, Ohio constitutes a disaster area due to damages caused by severe storms and a tornado that occurred on September 20, 2000. Applications for loans for physical damage as a result of this disaster may be filed until the close of business on November 25, 2000 and for economic injury until the close of business on June 26, 2001 at the address listed below or other locally announced locations: U.S. Small Business Administration, Disaster Area 2 Office, One Baltimore Place, Suite 300, Atlanta, GA 30308.

In addition, applications for economic injury loans from small businesses located in the contiguous counties of Clark, Clinton, Fayette, Madison, Montgomery, and Warren in the State of Ohio may be filed until the specified date at the above location.

The interest rates are:

| Percent
For Physical Damage:
Homeowners with credit available elsewhere | 7.375
Homeowners without credit available elsewhere | 3.687
Businesses with credit available elsewhere | 8.000
Businesses and non-profit organizations without credit available elsewhere | 4.000
Others (including non-profit organizations) with credit Available elsewhere | 6.750
For Economic Injury:
Businesses and small agricultural cooperatives without credit available elsewhere | 4.000

The numbers assigned to this disaster are 329911 for physical damage and 9J1500 for economic injury.

(Catalog of Federal Domestic Assistance Program Nos. 59002 and 59008)
Dated: September 28, 2000.
Herbert L. Mitchell,
Acting Associate Administrator for Disaster Assistance.

[FR Doc. 00-25796 Filed 10-5-00; 8:45 am]

BILLING CODE 8025-01-U